ENVIRONMENTAL PROTECTION AGENCY

40 CFR Part 82

[EPA-HQ-OAR-2008-0231; FRL-8582-6]

RIN 2060-AP18

Protection of Stratospheric Ozone: Revision of Refrigerant Recovery Only Equipment Standards

AGENCY: Environmental Protection Agency (EPA).

ACTION: Direct final rule.

SUMMARY: The Environmental Protection Agency (EPA) is taking direct final action on motor vehicle refrigerant recovery only equipment standards. Under Clean Air Act Section 609, motor vehicle air-conditioning (MVAC) refrigerant handling equipment must be certified by the Administrator or an independent organization approved by the Administrator and, at a minimum, must be as stringent as the standards of the Society of Automotive Engineers (SAE) in effect as of the date of the enactment of the Clean Air Act Amendments of 1990. In 1997, EPA promulgated regulations that required the use of SAE Standard J1732, HFC-134a Refrigerant Recovery Equipment for Mobile Air Conditioning Systems for certification of MVAC refrigerant handling equipment. SAE has replaced Standard J1732 with J2810, HFC-134a Refrigerant Recovery Equipment for Mobile Air Conditioning Systems. EPA is updating its reference to the new SAE standard for MVAC refrigerant recovery equipment used for MVAC servicing and MVAC disposal. This action reflects a change in industry standard practice.

DATES: This rule is effective on September 16, 2008 without further notice, unless EPA receives adverse comment by July 18, 2008. If we receive adverse comment, we will publish a timely withdrawal in the Federal Register informing the public that some or all of the amendments included in this direct final rule will not take effect.

ADDRESSES: Submit your comments, identified by Docket ID No EPA-HQ-OAR-2008-0231, by one of the following methods:

• http://www.regulations.gov: Follow the on-line instructions for submitting comments.

• E-mail: a-and-r-Docket@epa.gov.

• Fax: 202-566-1741.

• Mail: Environmental Protection Agency, Mailcode 6102T, EPA Docket Center (EPA/DC), 1200 Pennsylvania Avenue, NW., Washington, DC 20460.

• Hand Delivery: Public Reading Room, Room B102, EPA West Building, 1301 Constitution Avenue, NW., Washington, DC.

Such deliveries are only accepted during the Docket's normal hours of operation, and special arrangements should be made for deliveries of boxed information.

Instructions: Direct your comments to Docket ID No. EPA-HQ-OAR-2008-0231. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket, EPA/DC, EPA West, Room 3334, 1301 Constitution Ave., NW., Washington, DC. This Docket Facility is open from 8:30 a.m. to 4:30 p.m., Monday through Friday, excluding legal holidays. The telephone number for the Public Reading Room is (202) 566-1744, and the telephone number for the Air Docket is (202) 566-1742.

FOR FURTHER INFORMATION CONTACT: Karen Thundiyil, Stratospheric Protection Division, Office of Atmospheric Programs (MC 6205J), Environmental Protection Agency, 1200 Pennsylvania Ave., NW., Washington, DC 20460; telephone number: (202) 343-9464; fax number (202) 343-2363; e-mail address: thundiyil.karen@epa.gov.

SUPPLEMENTARY INFORMATION: EPA is publishing this rule without a prior proposed rule because we view this as a noncontroversial action and anticipate no adverse comment given this action is primarily administrative in nature. However, in the “Proposed Rules” section of today's Federal Register, we are publishing a separate document that will serve as the proposed rule to update EPA's reference to an obsolete SAE standard, if adverse comments are received on this direct final rule. The direct final rule will be effective on September 16, 2008 without further notice unless we receive adverse comments by July 18, 2008 or by August 4, 2008 if a hearing is requested. If we receive adverse comment, we will publish a timely notice in the Federal Register informing the public that the rule, or particular provisions of the rule, will not take effect. We will not institute a second comment period on this action. Any parties interested in commenting must do so at this time. We will address public comments in any subsequent final rule based on the proposed rule. For further information about commenting on this rule, see the ADDRESSES section of this document.

Existing regulations covering specifications for motor vehicle air conditioning (MVAC) refrigerant recovery only equipment, reference Society of Automotive Engineers (SAE) standards that have become outdated since the SAE issued new updated standards that replaces these outdated standards. This action will update existing regulations to reference newly updated SAE standards. This regulatory action is primarily administrative with no significant policy issues.

Section 609 of the Clean Air Act as amended (the Act), requires that EPA regulations be at least as stringent as SAE J1990 standard. J1990 describes refrigerant handling equipment for CFC-12 refrigerant. Since the enactment of the 1990 Amendments to the Act and more specifically section 609, the MVAC sector has transitioned from CFC-12, an ozone depleting substance, to HFC-134a, a non-ozone depleting substance. Now HFC-134a is the predominant refrigerant used in MVACs in the United States and globally. At the beginning of the MVAC transition from CFC-12 to HFC-134a, more than 13 years ago, SAE developed standard J1732 for HFC-134a refrigerant recovery only equipment. J1732 described standards for HFC-134a refrigerant recovery only machines. EPA adopted J1732 within its regulatory framework at 40 CFR Part 82 subpart B. Now, SAE has updated the standard on HFC-134a refrigerant recovery only equipment replacing J1732 with J2810. This action updates EPA's reference to SAE's new HFC-134a refrigerant handling equipment standards (J1732 in Appendix D to Subpart B of Part 82 in the Code of Federal Regulation).

I. Background

A. Statutory Authority

Title VI of the Act is designed to protect the stratospheric ozone layer. Section 609 of the Act requires the Administrator to promulgate regulations establishing standards and requirements regarding the servicing of MVACs. The Act requires that the Administrator establish standards for using MVAC refrigerant handling equipment that shall be at least as stringent as the applicable standards of SAE in effect as of the date of enactment (November 15, 1990). These regulations are at 40 CFR part 82 subpart B.

B. EPA Section 609 Equipment Certification Program

EPA requires that any person repairing or servicing MVACs shall certify to EPA that such person has acquired approved refrigerant handling equipment. An independent standards testing organization, approved by EPA, certifies equipment as meeting the MVAC refrigerant handling equipment standards. At this time, Intertek/ETL and Underwriters Laboratories Inc. (UL) have been approved by EPA to certify MVAC refrigerant handling equipment.

C. SAE Industry Standards

EPA refers to the SAE J standards for technical specifications related to MVAC servicing issues. SAE's standards are developed through international participation and cooperation of MVAC experts from motor vehicle manufacturers, MVAC suppliers, chemical manufacturers, refrigerant handling equipment manufacturers and other interested industry stakeholders. SAE standards are internationally recognized, adopted and referenced by all major motor vehicle manufacturers and their suppliers. SAE periodically updates their standards to reflect changes in industry best practices and/or technology improvements.

II. New Industry Practice and Updated SAE Standard

Test results from the SAE Improved Mobile Air Conditioning Cooperative Research Project, an MVAC industry sponsored research project, indicated that refrigerant handling equipment did not recover refrigerant from MVAC systems as well as was previously assumed (Docket No. EPA-HQ-OAR-0231-0001). As much as 30% of refrigerant remained in an MVAC system when J1732 recovery equipment indicated all refrigerant had been recovered. In light of poor recovery performance, SAE revised their standards to include performance standards that ensure an improved standard of refrigerant recovery. SAE replaced standard J1732 with standard J2810 in October 2007. J2810 encompasses all of J1732 and adds performance standards to improve equipment refrigerant recovery performance. Specifically, J2810 requires 95% refrigerant recovery in 30 minutes or less without prior engine operation or external heating at 21 °C to 24 °C ambient temperature.

With this action, EPA is updating its reference to the SAE standards at § 82.36. SAE J1732 will be superseded by J2810. In § 82.36 Approved refrigerant recycling equipment, EPA is updating the reference from J1732 to J2810, for recovery only equipment. By updating our reference to SAE's new standard J2810, the Agency avoids confusion on the part of the refrigerant handling equipment manufacturer, service technician, automobile dismantling operator or A/C service shop owner who would otherwise face a federal requirement that referenced an obsolete standard that conflicts with the new industry standard practice established with J2810.

As with all recovery only equipment, under J2810, it is not acceptable that the refrigerant removed from a MVAC system with this equipment be directly returned to a MVAC system.

While this action updates EPA's reference to SAE's new J2810 standard, it does not require users of recovery equipment to immediately replace previously certified MVAC recovery only equipment with new J2810 equipment. Rather, all new MVAC refrigerant handling equipment manufactured or imported after October 31, 2008 must be certified to J2810. Equipment manufactured after October 31, 2008 that is certified to J1732 will not meet regulatory requirements specified in this rule. See Section III below for a discussion on existing inventory of equipment certified to J1732.

For purposes of clarity and consistency, EPA is also amending § 82.158 Standards for recycling and recovery equipment of subpart F. Subpart F establishes safe handling for the servicing of stationary and MVAC-like appliances as well as safe disposal for stationary, MVACs and MVAC-like appliances. There is a MVAC reference with regards to safe disposal that will also be amended via this action. Unlike the rest of subpart F, § 82.158(l) contains an outdated reference in Appendix A of subpart B. All other subpart F references to subpart B refrigerant equipment standards cross-reference § 82.36(a), which includes MVAC equipment standards for all MVAC refrigerants. (See § 82.158(a) and § 82.158(f).) § 82.158(l) references Appendix A in subpart B which describes CFC-12 refrigerant recovery only. Consistent with the rest of subpart F, equipment standards must address not only CFC-12 but also its replacements, therefore EPA is amending § 82.158(l) to match § 82.158(a) and § 82.158(f).

III. Effective Date

MVAC recovery only equipment manufactured or imported after October 31, 2008 must be certified by an EPA-approved independent standards testing organization to meet the specifications of Appendix D of 40 Code of Federal Regulations, Part 82, Subpart B. As explained above, Appendix D will now require that such equipment be certified under SAE's updated standard J2810. EPA expects that this date provides sufficient time for production facilities and distributors to transition to the new SAE standards and sell most if not all of their inventory of J1732 equipment, since SAE released the new J2810 standard in October 2007. EPA will allow sales of J1732 equipment stock manufactured before October 31, 2008. Although certification of new equipment under SAE standard J2810 becomes effective for equipment manufactured or imported after October 31, 2008, EPA suggests that equipment manufacturers transition to the new equipment standard as soon as feasible.

IV. Statutory and Executive Order Reviews

A. Executive Order 12866: Regulatory Planning and Review

This action is not a “significant regulatory action” under the terms of Executive Order (EO) 12866 (58 FR 51735, October 4, 1993) and is therefore not subject to review under the EO.

B. Paperwork Reduction Act

This action does not impose any new information collection burden. The recordkeeping and reporting requirements included in this action are already included in an existing information collection burden. This action does not make any changes that would affect burden. However, the Office of Management and Budget (OMB) has previously approved the information collection requirements contained in the existing regulations, 40 CFR part 82, under the provisions of the Paperwork Reduction Act, 44 U.S.C. 3501 et seq. and has assigned OMB control number 2060-0247. The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rule on small entities, small entity is defined as: (1) A small business as defined by the Small Business Administration's (SBA) regulations at 13 CFR 121.201; (2) a small governmental jurisdiction that is a government of a city, county, town, school district or special district with a population of less than 50,000; and (3) a small organization that is any not-for-profit enterprise which is independently owned and operated and is not dominant in its field.

After considering the economic impacts of today's rule on small entities, we certify that this action will not have a significant economic impact on a substantial number of small entities. The requirements of today's rule do not require an immediate replacement of existing equipment with equipment certified to the new SAE standard. Rather, MVAC service shop owners will purchase equipment certified to the new SAE standard to replace existing refrigerant handling equipment as it approaches the end of its life.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that this rule does not contain a Federal mandate that may result in expenditures of $100 million or more for State, local, and tribal governments, in the aggregate, or the private sector in any one year. Today's rule does not affect State, local, or tribal governments. The impact of this rule on the private sector will be less than $100 million per year. Thus, today's rule is not subject to the requirements of sections 202 and 205 of the UMRA. EPA has determined that this rule contains no regulatory requirements that might significantly or uniquely affect small governments. These changes being made by this action are to update EPA's reference to the new SAE standards.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This action does not have federalism implications. It will not have substantial direct effects on the States, on the relationship between the national government and the States, or on the distribution of power and responsibilities among the various levels of government, as specified in Executive Order 13132. This changes being made by this action are to update EPA's reference to the new SAE standards. Thus, Executive Order 13132 does not apply to this rule.

F. Executive Order 13175: Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” This final rule does not have tribal implications, as specified in Executive Order 13175. It does not significantly or uniquely affect the communities of Indian tribal governments, because this regulation applies directly to facilities that use these substances and not to governmental entities. Thus, Executive Order 13175 does not apply to this rule.

G. Executive Order 13045: Protection of Children From Environmental Health Risks and Safety Risks

Executive Order 13045: “Protection of Children from Environmental Health Risks and Safety Risks” (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

EPA interprets Executive Order 13045 as applying only to those regulatory actions that are based on health or safety risks, such that the analysis required under section 5-501 of the Order has the potential to influence the regulation. This rule is not subject to Executive Order 13045 because it is based on technology performance and not on health or safety risks.

H. Executive Order 13211: Actions That Significantly Affect Energy Supply, Distribution, or Use

This rule is not subject to Executive Order 13211, “Actions Concerning Regulations That Significantly Affect Energy Supply, Distribution, or Use” (66 FR 28355 (May 22, 2001)) because it is not a significant regulatory action under Executive Order 12866.

I. National Technology Transfer and Advancement Act

Section 12(d) of the National Technology Transfer and Advancement Act of 1995 (“NTTAA”), Public Law No. 104-113, section 12(d) (15 U.S.C. 272 note) directs EPA to use voluntary consensus standards in regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards. This rulemaking explicitly references technical standards; EPA references SAE Standard J2810 which is the revised version of SAE Standard J1732. These standards can be obtained from http://www.sae.org/technical/standards/.

J. Executive Order 12898: Federal Actions to Address Environmental Justice in Minority Populations and Low-Income Populations

Executive Order (EO) 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

EPA has determined that this direct final rule will not have disproportionately high and adverse human health or environmental effects on minority or low-income populations because it does not affect the level of protection provided to human health or the environment. This action updates a regulatory reference to an obsolete standard to avoid confusion on the part of refrigerant handling equipment manufacturers, service technicians, automobile dismantling operators, and A/C service shop owners.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2). This rule will be effective September 16, 2008.

List of Subjects in 40 CFR Part 82

Environmental protection, Motor vehicle air-conditioning, Recovery equipment, Reporting and certification requirements, Stratospheric ozone layer.

Dated: June 12, 2008.
Stephen L. Johnson,
Administrator.

For the reasons set out in the preamble, 40 CFR part 82 is amended as follows:

PART 82—PROTECTION OF STRATOSPHERIC OZONE

1. The authority citation for part 82 continues to read as follows:

Authority: 42 U.S.C. 7414, 7601, 7671-7671q.

Subpart B—Servicing of Motor Vehicle Air Conditioners

2. Section 82.36 is amended by revising the section heading and paragraph (a)(5) to read as follows:

§ 82.36 Approved refrigerant handling equipment.

(a) * * *

(5) Effective October 31, 2008, equipment that recovers but does not recycle HFC-134a refrigerant must meet the standards set forth in Appendix D of this subpart based upon J2810—HFC-134a (R-134a) Recovery Equipment Mobile Air-Conditioning Systems.

* * * * *

Subpart B—Servicing of Motor Vehicle Air Conditioners

3. Appendix D to Subpart B is revised to read as follows:

Appendix D to Subpart B of Part 82—SAE J2810 Standard for Recovery Only Equipment for HFC-134a Refrigerant

Foreword

This Appendix establishes the specific minimum equipment requirements for the recovery of HFC-134a that has been directly removed from, motor vehicle air-conditioning systems.

1. Scope

The purpose of this SAE Standard is to provide minimum performance and operating feature requirements for the recovery of HFC-134a (R-134a) refrigerant to be returned to a refrigerant reclamation facility that will process it to the appropriate ARI 700 Standard or allow for recycling of the recovered refrigerant to SAE J2788 specifications by using SAE J2788-certified equipment. It is not acceptable that the refrigerant removed from a mobile air-conditioning (A/C) system with this equipment be directly returned to a mobile A/C system.

This information applies to equipment used to service automobiles, light trucks, and other vehicles with similar HFC-134a (R-134a) A/C systems.

1.1 Improved refrigerant recovery equipment is required to ensure adequate refrigerant recovery to reduce emissions and provide for accurate recharging of mobile air conditioning systems. Therefore, 12 months following the publication date of this standard, it supersedes SAE J1732.

2. References

2.1 Applicable Publications

The following publications form a part of the specification to the extent specified herein. Unless otherwise indicated, the latest revision of SAE publications shall apply.

2.1.1 SAE Publications

Available from SAE, 400 Commonwealth Drive, Warrendale, PA 15096-0001, Tel: 877-606-7323 (inside USA and Canada) or 724-776-4970 (outside USA), http://www.sae.org.

SAE J639 Safety Standards for Motor Vehicle Refrigerant Vapor Compressions Systems.

SAE J1739 Potential Failure Mode and Effects Analysis in Design (Design FMEA) and Potential Failure Mode and Effects Analysis in Manufacturing and Assembly Processes (Process FMEA) and Effects Analysis for Machinery (Machinery FMEA).

SAE J1771 Criteria for Refrigerant Identification Equipment for Use with Mobile Air-Conditioning Systems.

SAE J2196 Service Hose for Automotive Air Conditioning.

SAE J2296 Retest of Refrigerant Container.

SAE J2788 HFC-134a (R-134a) Recovery/Recycling Equipment and Recovery/Recycling/Recharging for Mobile Air-Conditioning Systems.

2.1.2 ARI Publication

Available from Air-Conditioning and Refrigeration Institute, 4100 North Fairfax Drive, Suite 200, Arlington, VA 22203, Tel: 703-524-8800, http://www.ari.org.

ARI 700 Specifications for Fluorocarbon Refrigerants.

2.1.3 CGA Publication

Available from Compressed Gas Association, 4221 Walney Road, 5th Floor, Chantilly, VA 20151-2923, Tel: 703-788-2700, http://www.cganet.com.

CGA S-1.1 Pressure Relief Device Standard Part 1—Cylinders for Compressed Gases.

2.1.4 DOT Specification

Available from the Superintendent of Documents, U.S. Government Printing Office, Mail Stop: SSOP, Washington, DC 20402-9320.

CFR 49, Section 173.304 Shippers—General Requirements for Shipments and Packagings.

2.1.5 UL Publication

Available from Underwriters Laboratories Inc., 333 Pfingsten Road, Northbrook, IL 60062-2096, Tel: 847-272-8800, http://www.ul.com.

UL 1769 Cylinder Valves.

3. Specifications and General Description

3.1 The equipment must be able to recover (extract) HFC-134a (R-134a) refrigerant from a mobile A/C system per the test procedure of sections 7 and 8.

3.2 The equipment shall be suitable for use in an automotive service garage environment as defined in 6.8.

3.3 Equipment Certification

The equipment shall be certified by an EPA-listed laboratory to meet this standard. SAE J2810.

3.4 Label Requirements

The equipment shall have a label with bold type, minimum 3 mm high, saying “Design Certified by (certifying agent, EPA listed laboratory) to meet SAE J2810 for use only with HFC-134a (R-134a). If it is to be re-used in an A/C system, the refrigerant recovered with this equipment must be processed to the appropriate ARI 700 specifications or to specifications by using equipment certified to perform to SAE J2788.”

3.5 SAE J1739

Potential Failure Mode and Effects Analysis in Design (Design FMEA), Potential Failure Mode and Effects Analysis in Manufacturing and Assembly Processes (Process FMEA), and Potential Failure Mode and Effects Analysis for Machinery (Machinery FMEA) shall be applied to the design and development of service equipment.

4. Safety Requirements

4.1 The equipment must comply with applicable federal, state, and local requirements on equipment related to the handling of HFC-134a (R-134a) material. Safety precautions or notices, labels, related to the safe operation of the equipment shall also be prominently displayed on the equipment and should state “CAUTION—SHOULD BE OPERATED ONLY BY CERTIFIED PERSONNEL.” The safety identification shall be located on the front near the controls.

4.2 The equipment must comply with applicable safety standards for the electrical and mechanical systems.

5. Operating Instructions

5.1 The equipment manufacturer must provide operating instructions that include information required by SAE J639, necessary maintenance procedures, and source information for replacement parts and repair.

5.1.1 The instruction manual shall include the following information on the lubricant removed. Only new lubricant, as identified by the system manufacturer, should be replaced in the mobile A/C system. Removed lubricant from the system and/or the equipment shall be disposed of in accordance with the applicable federal, state, and local procedures and regulations.

5.2 The equipment must prominently display the manufacturer's name, address, the type of refrigerant it is designed to extract (R-134a), a service telephone number, and any items that require maintenance or replacement that affect the proper operation of the equipment. Operation manuals must cover information for complete maintenance of the equipment to assure proper operation.

5.3 The equipment manufacturer shall provide a warning in the instruction manual regarding the possibility of refrigerant contamination from hydrocarbons, leak sealants and refrigerants other than R-134a in the mobile A/C system being serviced.

5.4 Recovery equipment having refrigerant identification equipment shall meet the requirements of SAE J1771.

5.5 Recovery equipment not having refrigerant identification capability shall have instructions warning the technician that failure to verify that the system contains only R-134a potentially exposes him or her to danger from flammable refrigerants and health hazards from toxic refrigerants. The instructions also shall alert to possible contamination problems to the recovery equipment from sealants and refrigerants other than R-134a, and to the fact that a refrigerant other than R-134a would require special handling by someone with specific expertise and equipment.

6. Function Description

6.1 The equipment must be capable of continuous operation in ambient temperatures of 10 °C (50 °F) to 49 °C (120 °F). Continuous is defined as completing recovery operation with no more than a brief reset between servicing vehicles, and shall not include time delays for allowing a system to outgas (which shall be part of the recovery period provided by this standard).

6.1.1 The equipment shall demonstrate ability to recovery a minimum of 95.0% of the refrigerant from the test vehicle in 30.0 minutes or less, without prior engine operation (for previous eight hours minimum), external heating or use of any device (such as shields, reflectors, special lights, etc.), which could heat components of the system. The recovery procedure shall be based on a test at 21 °C to 24 °C (70 °F to 75 °F) ambient temperature. The test system for qualifying shall be a 1.4 kg (3.0 lbs) capacity orifice tube/accumulator system in a 2005-07 Chevrolet Suburban with front and rear A/C or the test option described in section 9.

6.1.2 The equipment shall demonstrate ability to recover a minimum of 85% of the refrigerant from the test vehicle or system of 6.1.1. in 30.0 minutes or less, at an ambient temperature of 10 °C to 13 °C (50 °F to 55 °F), subject to the same restrictions regarding engine operation and external heating.

6.1.3 During recovery operation, the equipment shall provide overfill protection so that the liquid fill of the storage container does not exceed 80% of the tank's rated volume at 21 °C (70 °F). This will ensure that the container meets Department of Transportation (DOT) Standard, CFR Title 49, section 173.304 and the American Society of Mechanical Engineers.

6.1.4 Portable refillable tanks or containers used in conjunction with this equipment must be labeled “HFC-134a (R-134a) and meet applicable Department of Transportation (DOT) or Underwriters Laboratories (UL) Standards, and incorporate fittings per SAE J2197.

6.1.5 The cylinder valves shall comply with the standard for cylinder valves UL 1769.

6.1.6 The pressure relief device shall comply with the Pressure Relief Device Standard Part 1—Cylinders for Compressed Gasses CGA Pamphlet S-1.1.

6.1.7 The tank assembly shall be marked to indicate the first retest date, which shall be five years from the date of manufacture. The marking shall indicate that retest must be performed every subsequent five years. SAE J2296 provides an inspection procedure. The marking shall be in letters at least 6 mm (0.25 in) high. If ASME tanks, as defined in UL-1963, are used, they are exempt from the retest requirements.

6.2 If the marketer permits use of a refillable refrigerant tank, a method must be provided (including any necessary fittings) for transfer to a system that ensures proper handling (recycling or other, environmentally-legal disposal).

Restricting the equipment to use of non-refillable tanks eliminates compliance with this provision.

6.3 Prior to testing under this standard, the equipment must be preconditioned with a minimum of 13.6 kg of the standard contaminated HFC-134a (R-134a) at an ambient of 21 °C before starting the test cycle. Sample amounts are not to exceed 1.13 kg with sample amounts to be repeated every 5 min. The test fixture shown in Figure 1 shall be operated at 21 °C. Contaminated HFC-134a (R-134a) samples shall be processed at ambient temperatures of 10 °C and 49 °C (50 °F to 120 °F), without the equipment shutting down due to any safety devices employed in this equipment.

6.3.1 Contaminated HFC-134a (R-134a) sample shall be standard contaminated HFC-134a (R-134a) refrigerant, 13.6 kg sample size, consisting of liquid HFC-134a (R-134a) with 1300 ppm (by weight) moisture at 21 °C (70 °F) and 45 000 ppm (by weight) of oil (polyalkylene glycol oil with 46-160 cst viscosity at 40 °C) and 1000 ppm by weight of noncondensable gases (air).

6.3.2 Portable refillable containers used in conjunction with this equipment must meet applicable DOT Standards. The color of the container must be blue with a yellow top to indicate the container holds used HFC-134a (R-134a) refrigerant. The container must be permanently marked on the outside surface in black print at least 20 mm high, “CONTAMINATED HFC-134a (R-134a)—DO NOT USE, MUST BE REPROCESSED.”

Figure 1—Test Fixture

6.3.3 The portable refillable container shall have a 1/2 in ACME thread.

6.4 Additional Storage Tank Requirements.

6.4.1 The cylinder valve shall comply with UL 1769.

6.4.2 The pressure relief device shall comply with CGA Pamphlet S-1.1.

6.5 All flexible hoses must meet SAE J2196 for service hoses.

6.6 Service hoses must have shutoff devices located at the connection points to the system being serviced to minimize introduction of noncondensable gases into the recovery equipment during connection and the release of the refrigerant during disconnection.

6.7 The equipment must be able to separate the lubricant from recovered refrigerant and accurately indicate the amount removed from the simulated automotive system during processing in 20 mL (0.7 fl oz) units.

6.7.1 The purpose of indicating the amount of lubricant removed is to ensure that a proper amount of new lubricant is returned to the mobile A/C system for compressor lubrication, if the system is to be charged with equipment meeting SAE J2788.

6.7.2 Refrigerant dissolved in this lubricant must be accounted for to prevent lubricant overcharge of the mobile A/C system.

6.8 The equipment must be capable of continuous operation in ambient temperatures of 10 °C to 49 °C (50 °F to120 °F) and comply with 6.1 to 6.4 of this standard.

6.9 For test validation, the equipment is to be operated according to the manufacturer's instructions.

7. Test Procedure A at 21 °C to 24 °C (70 °F to 75 °F).

The test vehicle (2005-2007 Chevrolet Suburban with rear A/C system—1.4 kg/ 3.0 lb) or laboratory fixture per section 10.5 of SAE J2788, shall be prepared as for SAE J2788, section 10.3, following Steps 1, 2, 3, 4, and then the following:

7.1 Using a machine certified to SAE J2788 and with the machine on a platform scale with accuracy to within plus/minus 3.0 grams at the weight of the machine, charge the system to the vehicle manufacturer's recommended amount of refrigerant (1.4 kg-3.0 lb). The actual charge amount per the reading on the platform scale shall be used as the basis for the recovery efficiency of the recovery-only machine being tested to this standard. Run the engine (or operate test fixture with electric motor) for up to 15 minutes at up to 2000 rpm to circulate oil and refrigerant. The system then must rest for eight hours.

7.2 Place the recovery machine on the platform scale and record the weight with the hoses draped over the machine. Ambient temperature shall be within the range of 21 °C to 24 °C (70 °F to 75 °F) for this test, which shall be performed without the immediately prior engine operation permitted by SAE J2788, Section 10.3, Step No.1. The only permitted engine operation is as specified in 7.1.

7.3 Start the timer. Connect the service hoses to the system of the test vehicle and perform the recovery per the equipment manufacturer's instructions. The vehicle system's service valve cores must remain in the fittings for this procedure.

7.4 When recovery is completed, including from the service hoses if that is part of the recommended procedure, disconnect the hoses and drape over the machine. Stop the timer. The elapsed time shall be no more than 30 minutes.

7.5 Remove the oil reservoir, empty and reinstall. The platform scale shall indicate that a minimum of 95.0% of the refrigerant has been recovered, based on the charge amount indicated by the platform scale. If the machine has recovered the minimum of 95.0% within the 30.0 minutes, the next test shall be performed. If it fails this test, the marketer of the equipment must document changes to the equipment to upgrade performance before a retest is allowed. If it passes, the laboratory can proceed to Test Procedure B-10 °C to 13 °C (50 °F to 55 °F).

8. Test Procedure B at 10 °C to 13 °C (50 °F to 55 °F).

The test vehicle (2005-2007 Chevrolet Suburban front/rear A/C system (1.4 kg/3.0 lb) or test fixture per section 10.5 of SAE J2788, shall be prepared as per 7.0 and 7.1 of this standard, and then the following:

8.1 Place the recovery machine on the platform scale and record the weight with the hoses draped over the machine.

Ambient temperature at this time shall be no higher than 10 °C to13 °C (50 °F to 55 °F).

8.2 Start the timer. Connect the service hoses to the system of the test vehicle and perform the recovery per the equipment manufacturer's instructions. This also shall be performed without the immediately prior engine operation permitted by SAE J2788, section 10.4, Step No. 1. The vehicle system's service valve cores must remain in the fittings for this procedure.

8.3 When recovery is completed, including from the service hoses if that is part of the recommended procedure, disconnect the hoses and drape over the machine. Stop the timer. The elapsed time shall be no more than 30 minutes.

8.4 Remove the oil reservoir, empty and reinstall. The platform scale shall indicate that a minimum of 85.0% of the refrigerant has been recovered, based on the charge amount indicated by the platform scale. If the machine has recovered the minimum of 85.0% within the 30 minutes, it has passed the test procedure and if it meets all other requirements of this standard, it is certified.

9. Test Option

As in SAE J2788, Section 10.5, as an alternative to a 2005-2007 Chevrolet Suburban with rear A/C (1.4 kg-3.0 lb) system, a laboratory test fixture may be used to certify to SAE J2810 the fixture must be composed entirely of all the original equipment parts of a single model year for the 1.4 kg (3.0 lb) capacity system. All parts must be those OE-specified for one model year system and no parts may be eliminated or bypassed from the chosen system or reproduced from a non-OE source. No parts may be added and/or relocated from the OE position in the 2005-07 Suburban. No parts may be modified in any way that could affect system performance for testing under this standard, except adding refrigerant line bends and/or loops to make the system more compact. Reducing the total length of the lines, however, is not permitted.

The fixture systems for this standard shall not be powered by an electric motor during recovery, although a motor can be used, run at a speed not to exceed 2000 rpm, as part of the preparatory process, including installation of the charge.

Subpart F—Recycling and Emissions Reduction

4. Section 82.158 is amended by revising paragraph (l) to read as follows:

§ 82.158 Standards for recycling and recovery equipment.

* * * * *

(l) Equipment used to evacuate refrigerant from MVACs and MVAC-like appliances before they are disposed of must be certified in accordance with § 82.36(a).

* * * * *

[FR Doc. E8-13749 Filed 6-17-08; 8:45 am]

BILLING CODE 6560-50-P